FEDERAL COMMUNICATIONS COMMISSION

47 CFR Part 73

[DA No. 00-1110; MM Docket No. 00-28; RM-9796]

Radio Broadcasting Services; Christine, TX

AGENCY: Federal Communications Commission.

ACTION: Proposed rule; dismissal.

SUMMARY: This document dismisses a proposal filed by Christine Radio Broadcasting Company requesting the allotment of Channel 245A at Christine, Texas, as the community's first local service. See 65 FR 11537, March 3, 2000. As stated in the Notice, a showing of continuing interest is required before a channel will be allotted. Since there has been no interest expressed for the allotment of a channel at Christine, the Report and Order dismisses the proposal.

FOR FURTHER INFORMATION CONTACT: Kathleen Scheuerle, Mass Media Bureau, (202) 418-2180.

SUPPLEMENTARY INFORMATION: This is a summary of the Commission's Report and Order, MM Docket No. 00-28, adopted May 10, 2000, and released May 19, 2000. The full text of this Commission decision is available for inspection and copying during normal business hours in the Commission's Reference Center, 445 12th Street, SW, Washington, DC. The complete text of this decision may also be purchased from the Commission's copy contractors, International Transcription Services, Inc., 1231 20th Street, NW, Washington, DC 20036, (202) 857-3800, facsimile (202) 857-3805.

Federal Communications Commission.
John A. Karousos,
Chief, Allocations Branch, Policy and Rules Division, Mass Media Bureau.

[FR Doc. 00-13597 Filed 5-31-00; 8:45 am]

BILLING CODE 6712-01-P